CHEMICAL SAFETY AND HAZARD INVESTIGATION BOARD

Senior Executive Service Performance Review Board

AGENCY: Chemical Safety and Hazard Investigation Board.

ACTION: Notice.

SUMMARY: This notice announces changes in the membership of the Senior Executive Service Performance Review Board for the Chemical Safety and Hazard Investigation Board (CSB).

DATES: Effective December 3, 2004.

FOR FURTHER INFORMATION CONTACT: Christopher Kirkpatrick, Office of General Counsel, (202) 261-7600.

SUPPLEMENTARY INFORMATION: 5 U.S.C. 4314(c) requires each agency to establish, in accordance with regulations prescribed by the Office of Personnel Management, a performance review board (PRB). The PRB reviews initial performance ratings of members of the Senior Executive Services (SES) and makes recommendations on performance ratings and awards for senior executives. Because the CSB is a small independent Federal agency, the SES members of the CSB's PRB are being drawn from other Federal agencies.

The Chairperson of the CSB has appointed the following individuals to the CSB Senior Executive Service Performance Review Board:

PRB Member—Ronald S. Battocchi (General Counsel, National Transportation Safety Board).

PRB Member—Elizabeth S. Woodruff (General Counsel, Federal Retirement Thrift Investment Board).

The above-named members of the CSB PRB replace Dan Campbell (Managing Director, National Transportation Safety Board) and Kathleen O'Brien Ham (Office of Strategic Planning and Policy Analysis, Federal Communications Commission), whose service on the PRB has ended. Their appointments were originally announced in the Federal Register of October 8, 2003 (68 FR 58063).

John S. Bresland (CSB Board Member) continues as Chair of the PRB, as announced in the Federal Register of October 8, 2003 (68 FR 58063).

This notice is published in the Federal Register pursuant to the requirement of 5 U.S.C. 4314(c)(4).

Dated: November 29, 2004.
Raymond C. Porfiri,
Deputy General Counsel.

[FR Doc. 04-26654 Filed 12-2-04; 8:45 am]

BILLING CODE 6350-01-P